DEPARTMENT OF ENERGY

Federal Energy Regulatory Commission

[Docket No. EG01-253-000, et al.]

CPV Cana, Ltd., et al.; Electric Rate and Corporate Regulation Filings

July 10, 2001.

Take notice that the following filings have been made with the Commission:

1. CPV Cana, Ltd.

[Docket No. EG01-253-000]

Take notice that on July 6, 2001, CPV Cana, Ltd. (CPV Cana or Applicant), ℅ Competitive Power Ventures, Inc., Silver Spring Metro Plaza II, 8403 Colesville Road, Suite 915, Silver Spring, MD 20910, filed with the Federal Energy Regulatory Commission (Commission) an Application for Determination of Exempt Wholesale Generator Status, pursuant to Part 365 of the Commission's Regulations and Section 32 of the Public Utility Holding Company Act of 1935, as amended.

Applicant, a Florida limited partnership, is a special purpose entity established to develop, construct, own and operate a nominally rated 250 MW natural gas-fired combined cycle generating facility (Facility) to be located in St. Lucie County, Florida. The Facility will consist of one (1) F class combustion turbine, one (1) heat recovery steam generator and one (1) steam turbine. The Facility as currently configured will include certain transmission interconnection facilities necessary to effect the sale of electric energy at wholesale and interconnect the Facility to the transmission grid. All of the electricity generated by the Facility will be sold exclusively at wholesale.

Comment date: July 31, 2001, in accordance with Standard Paragraph E at the end of this notice. The Commission will limit its consideration of comments to those that concern the adequacy or accuracy of the application.

2. Commonwealth Edison Company

[Docket No. ER00-3668-002]

Take notice that on July 5, 2001, Commonwealth Edison Company (ComEd), in compliance with the Commission's June 4, 2001 “Order Accepting in Part and Rejecting in Part Compliance Filing, and Establishing Further Proceedings,” 95 FERC 61,349 (2001), submitted for filing in the above-referenced proceeding a new Order 614 designation for the Interconnection and Letter Agreements between ComEd and University Park LLC (University Park) that were submitted in the above-referenced proceeding. Copies of this filing were served on University Park, on the Illinois Commerce Commission and on the parties designated on the official service list compiled by the Secretary.

Comment date: July 26, 2001, in accordance with Standard Paragraph E at the end of this notice.

3. Sithe Fore River Development LLC; Sithe Mystic Development LLC

[Docket Nos. ER01-41-002 ER01-42-002]

Take notice that on July 5, 2001, Sithe Fore River Development LLC (SFRD) and Sithe Mystic Development LLC (SMD) filed with the Commission rate schedule designations for their FERC Electric Rate Schedules Nos. 1 and 2, in compliance with Order No. 614.

Comment date: July 26, 2001, in accordance with Standard Paragraph E at the end of this notice.

4. Megawatt Marketing, LLC

[Docket No. ER01-1690-001]

Take notice that on July 2, 2001, Megawatt Marketing, LLC (Megawatt Marketing), tendered for filing an amendment to an application filed on April 2, 2001, for acceptance of Megawatt Marketing Rate Schedule FERC No. 1; the granting of certain blanket approvals, including the authority to sell electricity at market-based rates; and the waiver of certain Commission regulations. The instant filing amends the application by including required designations in the tariff rate schedule and including a statement that the individual principals do not have ownership interests in other businesses involved in the production of marketing of electric power.

Megawatt Marketing intends to engage in wholesale electric power and energy purchases and sales as a marketer. Megawatt Marketing is not in the business of generating or transmitting electric power. Megawatt Marketing is a Nevada limited liability company with its principal place of business in Carson City, Nevada.

Comment date: July 23, 2001, in accordance with Standard Paragraph E at the end of this notice.

5. Altorfer, Inc.

[Docket No. ER01-1758-001]

Take notice that Altorfer Inc. (Altorfer), of Cedar Rapids, Iowa, on July 5, 2001 tendered for filing with the Commission a revised Power Purchase Agreement with Central Illinois Light Company, under which Altorfer would sell energy to CILCO at market-based rates.

Copies of the filing were served on the affected customer and the Illinois Commerce Commission.

Comment date: July 26, 2001, in accordance with Standard Paragraph E at the end of this notice.

6. PPL Southwest Generation Holdings, LLC

[Docket No. ER01-1870-001]

Take notice that on July 5, 2001, PPL Southwest Generation Holdings, LLC (PPL Southwest Generation) filed with the Commission a revised tariff sheet to PPL Southwest Generation's FERC Electric Tariff Original Volume No. 1 in compliance with the Letter Order issued on June 21, 2001 in the above-captioned docket. The revision incorporates a prohibition on power purchases from any affiliated public utility with a franchised service territory absent a separate filing under Section 205 of the Federal Power Act.

PPL Southwest Generation states that copies of this filing have been served upon each person designated on the official service list compiled by the Secretary in this proceeding.

Comment date: July 26, 2001, in accordance with Standard Paragraph E at the end of this notice.

7. Moses Lake Generating LLC

[Docket No. ER01-1871-001]

On July 5, 2001, Moses Lake Generating LLC (Seller) made a compliance filing pursuant to the order of the Federal Energy Regulatory Commission (Commission) issued on June 22, 2001, in the above-captioned docket. The Commission's June 22 order accepted Seller's market-based rate filing, conditioned upon Seller, within 15 days of the order, deleting the term “to others that are self-supplying ancillary services to the ISO” from Section 1(a) of its tariff, and adding the term “all” to Section 2(b) of its Code of Conduct. Seller's filing reflects these changes.

Comment date: July 26, 2001, in accordance with Standard Paragraph E at the end of this notice.

8. Maclaren Energy, Inc.

[Docket No. ER01-2104-001]

Take notice that on July 5, 2001, Maclaren Energy, Inc. submitted for filing, pursuant to Section 205 of the Federal Power Act, and Part 35 of the Commission's regulations, an amendment to its Petition for authorization to make sales of electric capacity and energy, including certain ancillary services, at market-based rates and for related waivers and blanket authorizations. The amendment was submitted in response to the Commission Staff's oral request for additional information.

Comment date: July 26, 2001, in accordance with Standard Paragraph E at the end of this notice.

9. San Diego Gas & Electric Company

[Docket No. ER01-2318-001]

Take notice that on July 5, 2001, San Diego Gas & Electric Company (SDG&E) tendered for filing its amended Service Agreements numbers 7 and 8 to its FERC Electric Tariff, First Revised Volume No. 6. The amended filing was made to conform the Service Agreements to FERC Order No. 614. No substantive changes were made to either agreement.

Comment date: July 26, 2001, in accordance with Standard Paragraph E at the end of this notice.

10. Sierra Pacific Power Company

[Docket No. ER01-2506-000]

Take notice that on July 8, 2001, Sierra Pacific Power Company (Sierra) filed, pursuant to Section 205 of the Federal Power Act, an executed Interconnection and Operation Agreement between Sierra and Naniwa Energy LLC.

Comment date: July 26, 2001, in accordance with Standard Paragraph E at the end of this notice.

11. IDACORP Energy LP

[Docket No. ER01-2507-000]

Take notice that on July 5, 2001, IDACORP Energy LP tendered for filing with the Federal Energy Regulatory Commission Service Agreements under IDACORP Energy LP's FERC Electric Tariff No. 1, Market Rate Power Sales Tariff.

Comment date: July 26, 2001, in accordance with Standard Paragraph E at the end of this notice.

12. ENMAX Energy Marketing Inc.

[Docket No. ER01-2508-000]

Take notice that on July 5, 2001, ENMAX Energy Marketing Inc. (ENMAX) tendered for filing its FERC Electric Tariff No. 1 authorizing ENMAX to make sales of power services at market-based rates and requesting certain waivers of Commission regulations.

Comment date: July 26, 2001, in accordance with Standard Paragraph E at the end of this notice.

13. Valley Electric Association, Inc.

[Docket No. ER01-2510-000]

Take notice that on July 5, 2001, Valley Electric Association, Inc. tendered for filing a notice of cancellation of Service Schedule D to its Rate Schedule FERC No. 16.

Comment date: July 26, 2001, in accordance with Standard Paragraph E at the end of this notice.

14. Entergy Services, Inc.

[Docket No. ER01-2511-000]

Take notice that on July 5, 2001, Entergy Services, Inc., on behalf of Entergy Gulf States, Inc., tendered for filing an executed Interconnection and Operating Agreement with BASF Fina Petrochemicals Limited Partnership (BASF), and a Generator Imbalance Agreement with BASF.

Comment date: July 26, 2001, in accordance with Standard Paragraph E at the end of this notice.

15. Avista Corporation

[Docket No. ER01-2512-000]

Take notice that on July 5, 2001, Avista Corporation (Avista) tendered for filing with the Federal Energy Regulatory Commission an executed Generation Interconnection Agreement Between Avista Corporation and Plummer Forest Products, Inc.

Avista requests waiver of the Commission's notice requirements to allow the Service Agreements to become effective on April 30, 2001.

Comment date: July 26, 2001, in accordance with Standard Paragraph E at the end of this notice.

16. Illinois Power Company

[Docket No. ER01-2513-000]

Take notice that on July 5, 2001, Illinois Power Company (Illinois Power), filed with the Commission the First Revised Firm Long-Term Point-To-Point Transmission Service Agreement with Axia Energy, L. P. (Axia), entered into pursuant to Illinois Power's Open Access Transmission Tariff. Illinois Power states that a copy of this filing has been sent to Axia.

Illinois Power requests an effective date of July 1, 2001 for the First Revised Service Agreement and a waiver of the Commission's notice requirement.

Comment date: July 26, 2001, in accordance with Standard Paragraph E at the end of this notice.

17. Illinois Power Company

[Docket No. ER01-2514-000]

Take notice that on July 5, 2001, Illinois Power Company (Illinois Power), filed a Firm Short Term Point-to-Point Transmission Service Agreement entered into with EnerStar Power Corporation pursuant to Illinois Power's Open Access Transmission Tariff.

Illinois Power requests an effective date of July 1, 2001 for the Agreements. Illinois Power states that a copy of this filing has been sent to EnerStar Power Corporation.

Comment date: July 26, 2001, in accordance with Standard Paragraph E at the end of this notice.

18. Illinois Power Company

[Docket No. ER01-2515-000]

Take notice that on July 5, 2001, Illinois Power Company (Illinois Power), filed a Non Firm Point-to-Point Transmission Service Agreement entered into with EnerStar Power Corporation pursuant to Illinois Power's Open Access Transmission Tariff.

Illinois Power requests an effective date of July 1, 2001 for the Agreements. Illinois Power states that a copy of this filing has been sent to EnerStar Power Corporation.

Comment date: July 26, 2001, in accordance with Standard Paragraph E at the end of this notice.

19. Exelon Generation Company, LLC

[Docket No.ER01-2516-000]

Take notice that on July 5, 2001, Exelon Generation Company, LLC (Exelon Generation) submitted for filing with the Federal Energy Regulatory Commission (FERC or the Commission) a service agreement for wholesale power sales transactions between Exelon Generation and Peoples Energy Services under Exelon Generation's wholesale power sales tariff, FERC Electric Tariff, Original Volume No. 1.

Comment date: July 26, 2001, in accordance with Standard Paragraph E at the end of this notice.

20. PacifiCorp

[Docket No.ER01-2517-000]

Take notice that PacifiCorp on July 5, 2001, tendered for filing in accordance with 18 CFR 35 of the Commission's Rules and Regulations, Umbrella Service Agreements for Non-Firm and Short-Term Firm Transmission Service with Conoco Power Marketing, Inc. (Conoco), Desert Power LP (Desert), Dynegy Power Marketing, Inc. (Dynegy), State of Nevada, Colorado River Commission (Nevada), and Pinnacle West Marketing & Trading (Pinnacle) under PacifiCorp's FERC Electric Tariff, Second Revised Volume No. 11 (Tariff).

Copies of this filing were supplied to the Washington Utilities and Transportation Commission and the Public Utility Commission of Oregon.

Comment date: July 26, 2001, in accordance with Standard Paragraph E at the end of this notice.

21. The Dayton Power and Light Company

[Docket No. ER01-2518-000]

Take notice that on July 5, 2001 The Dayton Power and Light Company (Dayton) submitted a service agreement establishing Orion Power Marketing as a customer under the terms of Dayton's FERC Electric Tariff, Original Volume No. 10.

Dayton requests an effective date of one day subsequent to this filing for the service agreements. Accordingly, Dayton requests waiver of the Commission's notice requirements. Copies of this filing were served upon Orion Power Marketing and the Public Utilities Commission of Ohio.

Comment date: July 26, 2001, in accordance with Standard Paragraph E at the end of this notice.

22. Basin Electric Power Cooperative, Inc.

[Docket No. NJ01-8-000]

Take notice that on July 5, 2001, Basin Electric Power Cooperative, Inc. (Basin Electric) tendered for filing a modification to its loss factor under its Open Access Transmission Tariff, FERC Electric Original Volume No. 1 (Tariff).

Basin Electric requests that the modification become effective July 5, 2001.

Copies of the filing were served upon Basin Electric's customers receiving service under the Tariff.

Comment date: August 9, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-17667 Filed 7-13-01; 8:45 am]

BILLING CODE 6717-01-P